DEPARTMENT OF THE INTERIOR

Bureau of Land Management

[LLNV930000 L51010000.ER0000 241A; 13-08807; MO# 4500051040; TAS: 14X5017]

Notice of Availability of the Draft Supplemental Environmental Impact Statement for the Ruby Pipeline Project, NV

AGENCY: Bureau of Land Management, Interior.

ACTION: Notice of Availability.

SUMMARY: In accordance with the National Environmental Policy Act of 1969, as amended (NEPA), and the Federal Land Policy and Management Act of 1976, as amended, the Bureau of Land Management (BLM) has prepared a Draft Supplemental Environmental Impact Statement (EIS) for the Ruby Pipeline Project and by this notice is announcing the opening of the comment period.

DATES: To ensure comments will be considered, the BLM must receive written comments on the Ruby Pipeline Project Draft Supplemental EIS within 45 days following the date the Environmental Protection Agency publishes its Notice of Availability in the Federal Register. The BLM will announce any future meetings or hearings and any other public involvement activities at least 15 days in advance through public notices, media releases, and/or mailings.

ADDRESSES: You may submit comments related to the Ruby Pipeline Project Draft Supplemental EIS by any of the following methods:

• Web site: http://www.blm.gov/nv/st/en/info/nepa/ruby_pipeline_project.html.

• Email: blmruby@blm.gov.

• Mail: Ruby SEIS, c/o Bureau of Land Management Price Field Office, 125 South 600 West, Price, Utah 84501.

Locations where copies of the Ruby Pipeline Project Draft Supplemental EIS are available are listed under SUPPLEMENTARY INFORMATION.

FOR FURTHER INFORMATION CONTACT: Mark Mackiewicz, PMP, Project Manager at 435-636-3616, Bureau of Land Management Price Field Office, 125 South 600 West, Price, Utah 84501; or by email at mmackiew@blm.gov. You may contact Mr. Mackiewicz to have your name added to our mailing list.

Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The BLM has prepared a Draft Supplemental EIS to correct the deficiencies in the Ruby Pipeline Final EIS identified by the Ninth U.S. Circuit Court of Appeals. The Draft Supplemental EIS includes supplemental information about the original and present condition of the sagebrush steppe habitat and analyzes the cumulative impacts of the Ruby Pipeline Project based on the supplemental information. The Draft Supplemental EIS will serve as the foundation for the BLM's decision on whether to reissue the right-of-way (ROW) granted to Ruby for the project and, if so, to determine what terms and conditions would be required.

The Federal Energy Regulatory Commission (FERC) is responsible for authorizing construction and operation of interstate natural gas pipelines. Accordingly, the FERC served as the lead agency for Ruby Pipeline LLC's (Ruby) application for the Ruby Pipeline Project. The FERC used the Final EIS it prepared (January 28, 2010) to issue its Certificate for the Ruby Pipeline Project on April 5, 2010. The Certificate authorized Ruby to construct an approximately 678-mile long, 42-inch diameter interstate natural gas pipeline that crosses 368 miles of Federal land beginning near Opal, Wyoming, extending through northern Utah and northern Nevada, and terminating near Malin, Oregon.

The BLM has primary responsibility for issuing right-of-way ROW grants and temporary use permits for natural gas pipelines across most Federal lands pursuant to Section 28 of the Mineral Leasing Act of 1920, as amended (30 U.S.C. 185 et seq.). Ruby applied to the BLM for a ROW grant for the Ruby Pipeline Project on December 3, 2007. The Federal lands crossed or used as access for the project include lands managed by the BLM; Bureau of Reclamation (Reclamation); the United States Fish and Wildlife Service (USFWS) Sheldon National Wildlife Refuge; and the United States Department of Agriculture, Forest Service (USFS), specifically the Fremont-Winema National Forests, the Uinta-Wasatch-Cache National Forest, and the Modoc National Forest. Based on the Final EIS issued by the FERC, the BLM issued a Ruby Pipeline Project Record of Decision (ROD) and ROW grant for the use of lands under the administration of the BLM, Reclamation, USFWS, and the USFS on July 12, 2010.

The project has been constructed and is currently in operation. However, the BLM Ruby Pipeline Project ROD and ROW grant were appealed to the Ninth U.S. Circuit Court of Appeals in 2011, and, on October 22, 2012, the court found that the Ruby Pipeline Final EIS does not provide sufficient quantified or detailed data about the cumulative loss of sagebrush steppe vegetation and habitat. Consistent with an April 29, 2013, order staying an earlier opinion vacating the BLM's original ROD, the Ninth Circuit directed the BLM to prepare a revised ROD by November 21, 2013, that addresses the identified deficiencies in the NEPA analysis. The Supplemental EIS is part of the process of responding to that order.

To the extent applicable, the BLM will use the NEPA commenting process to satisfy the public involvement process for Section 106 of the National Historic Preservation Act as provided for in 36 CFR 800.2(d)(3) and Secretarial Order 3317. Native American tribal consultations will be conducted in accordance with policy, and tribal concerns will be given due consideration, including impacts on Indian trust assets.

Please note that public comments and information submitted including names, street addresses, and email addresses of persons who submit comments will be available for public review and disclosure at the above address during regular business hours (8 a.m. to 4 p.m.), Monday through Friday, except holidays.

Copies of the Ruby Pipeline Project Draft Supplemental EIS are available at the following BLM offices:

• Kemmerer Field Office, 312 Hwy 189 North, Kemmerer, Wyoming

• Salt Lake Field Office, 2370 South 2300 West, Salt Lake City, Utah

• Elko District Office, 3900 East Idaho Street, Elko, Nevada

• Winnemucca District Office, 5100 East Winnemucca Boulevard, Winnemucca, Nevada

• Lakeview District Office, 1301 S. G Street, Lakeview, Oregon

• Klamath Falls Resource Area Office, 2795 Anderson Avenue, Suite 25, Klamath Falls, Oregon

• Surprise Field Office, 602 Cressler Street, Cedarville, California

• Additional locations where hard copies of the Draft Supplemental EIS can be viewed can be found on the project Web site or by contacting the project manager.

Before including your address, phone number, email address, or other personal identifying information in your comment, you should be aware that your entire comment—including your personal identifying information—may be made publicly available at any time. While you can ask us in your comment to withhold your personal identifying information from public review, we cannot guarantee that we will be able to do so.

Authority: 40 CFR 1502.9, 43 CFR 2880.

Amy Lueders,
Nevada State Director.

[FR Doc. 2013-16129 Filed 7-3-13; 8:45 am]

BILLING CODE 4310-HC-P